DEPARTMENT OF HEALTH AND HUMAN SERVICES

National Institutes of Health

Office of The Director, National Institutes of Health; Notice of Meeting

Notice is hereby given of a change in the meeting of the HEAL Multi-Disciplinary Working Group (MDWG) Meeting, August 31, 2020, 9:00 a.m. to 4:30 p.m., National Institutes of Health, Bethesda, MD 20892, Virtual Meeting, which was published in the Federal Register on August 5, 2020, 85 FR 47390.

The meeting notice is amended to change the meeting date from a one-day to a two-day meeting. The August 2020 HEAL MDWG Meeting will now be held on August 31, 2020 to September 1, 2020, with the open and closed portions of the meeting as indicated below. The meeting is partially closed to the public.

Open: August 31, 2020, 11:00 a.m. to 1:30 p.m.

Closed: August 31, 2020, 1:30 p.m. to 3:30 p.m.

Open: September 1, 2020, 11:00 a.m. to 1:30 p.m.

The open portion of the meeting will be live webcast at: https://videocast.nih.gov/.

Dated: August 20, 2020.
Tyeshia M. Roberson,
Program Analyst, Office of Federal Advisory Committee Policy.

[FR Doc. 2020-18760 Filed 8-25-20; 8:45 am]

BILLING CODE 4140-01-P